DEPARTMENT OF HEALTH AND HUMAN SERVICES

National Institutes of Health

Office of the Director, National Institutes of Health; Notice of Meeting

Pursuant to section 10(a) of the Federal Advisory Committee Act, as amended (5 U.S.C. Appendix 2), notice is hereby given of a meeting of the Peer Review Oversight Group.

The meeting will be open to the public, with attendance limited to space available. Individuals who plan to attend and need special assistance, such as sign language interpretation or other reasonable accommodations, should notify the Contact Person listed below in advance of the meeting.

Name of Committee: Peer Review Oversight Group.

Date: July 10-11, 2000.

Time: July 10, 2000, 8:30 AM to 5:00 PM.

Agenda: The discussions will focus on peer review-related issues including, the use of lay reviewers, structured review, preliminary data, modular grant applications, conflict of interest, Federal reimbursement for compliance costs, and the status of activities related to the implementation of recommendations in the Regulatory Burden Report.

Place: National Institutes of Health, Building 60, 9000 Rockville Pike, Bethesda, MD 20892.

Contact Person: Barbara Nolte, Program Analyst, Office of Extramural Research, National Institutes of Health, 9000 Rockville Pike, Building 1, Room 252, Bethesda, MD 20892, 301-402-1058.

(Catalogue of Federal Domestic Assistance Program Nos. 93.14, Intramural Research Training Award; 93.187, Undergraduate Scholarship Program for Individuals from Disadvantaged Backgrounds; 93.22, Clinical Research Loan Repayment Program for Individuals from Disadvantaged Backgrounds; 93.232, Loan Repayment Program for Research Generally; 93.39, Academic Research Enhancement Award; 93.936, NIH Acquired Immunodeficiency Syndrome Research Loan Repayment Program, National Institutes of Health, HHS)

Dated: June 19, 2000.
LaVerne Y. Stringfield,
Director, Office of Federal Advisory Committee Policy.

[FR Doc. 00-15938 Filed 6-22-00; 8:45 am]

BILLING CODE 4140-01-M